FEDERAL COMMUNICATIONS COMMISSION

47 CFR Part 73

[DA 00-392; MM Docket No. 95-108; RM-8631]

Radio Broadcasting Services; Ankeny and West Des Moines, IA

AGENCY: Federal Communications Commission.

ACTION: Final rule.

SUMMARY: The Commission, at the request of Fuller-Jeffrey Broadcasting Corporation, reallots Channel 223C2 from Ankeny, Iowa and modifies Station KJJY-FM's license accordingly. See 60 FR 37042 (July 19, 1995). Channel 232C2 can be allotted to West Des Moines in compliance with the Commission's minimum distance separation requirements without the imposition of a site restriction at petitioner's authorized site. The coordinates for Channel 223C2 at West Des Moines are North Latitude 41-39-53 and West Longitude 93-45-24. With this action, this proceeding is terminated.

DATES: Effective April 10, 2000.

FOR FURTHER INFORMATION CONTACT: Arthur D. Scrutchins, Mass Media Bureau, (202) 418-2180.

SUPPLEMENTARY INFORMATION: This is a synopsis of the Commission's Report and Order, MM Docket No. 95-108, adopted February 16, 2000, and released February 25, 2000. The full text of this Commission decision is available for inspection and copying during normal business hours in the Commission's Reference Information Center (Room CY-A257) at its headquarters, 445 12th Street, SW, Washington, DC. The complete text of this decision may also be purchased from the Commission's copy contractors, International Transcription Service, Inc., (202) 857-3800, 1231 20th Street, NW, Washington, DC 20036.

List of Subjects in 47 CFR Part 73

Radio broadcasting.

Part 73 of Title 47 of the Code of Federal Regulations is amended as follows:

PART 73 [AMENDED]

1. The authority citation for Part 73 continues to read as follows:

Authority: Sections 303, 48 Stat., as amended, 1082; 47 U.S.C. 154, as amended.

§ 73.202 [Amended]

2. Section 73.202(b), the Table of FM Allotments under Iowa is amended by removing Channel 223C2 from Ankeny and adding Channel 223C2 at West Des Moines.

Federal Communications Commission.
John A. Karousos,
Chief, Allocations Branch, Policy and Rules Division, Mass Media Bureau.

[FR Doc. 00-5143 Filed 3-2-00; 8:45 am]

BILLING CODE 6712-01-P